INTERNATIONAL TRADE COMMISSION

[Inv. No. 337-TA-1351]

Certain Active Matrix Organic Light-Emitting Diode Display Panels and Modules for Mobile Devices, and Components Thereof; Institution of Investigation

AGENCY: U.S. International Trade Commission.

ACTION: Notice.

SUMMARY: Notice is hereby given that a complaint was filed with the U.S. International Trade Commission on December 28, 2022, under section 337 of the Tariff Act of 1930, as amended, on behalf of Samsung Display Co., Ltd. of the Republic of Korea. A supplement to the complaint was filed on January 17, 2023. The complaint alleges violations of section 337 based upon the importation into the United States, the sale for importation, and the sale within the United States after importation of certain active matrix organic light-emitting diode display panels and modules for mobile devices, and components thereof by reason of the infringement of certain claims of U.S. Patent No. 9,818,803 (“the '803 patent”); U.S. Patent No. 10,854,683 (“the '683 patent”); U.S. Patent No. 7,414,599 (“the '599 patent”); and U.S. Patent No. 9,330,593 (“the '593 patent”). The complaint further alleges that an industry in the United States exists as required by the applicable Federal Statute. The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2022).

Scope of Investigation: Having considered the complaint, the U.S. International Trade Commission, on January 27, 2023, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-5 and 19-21 of the '803 patent; claims 1, 2, 4-10, and 13 of the '683 patent; claims 1-18 of the '599 patent; and claims 1-3, 6-8, and 14-22 of the '593 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “active matrix organic light-emitting diode (`AMOLED') display panels and modules used as replacement displays for mobile devices comprising organic pixel elements for presenting information to a viewer which infringe one or more claims of the Asserted Patents, and components thereof, where AMOLED display module refers to the assembly of an AMOLED display panel (containing light-emitting materials, pixel circuitry, and encapsulation layers on a substrate) with additional components such as a connector cable, one or more polarizing layers, window glass, and/or housing materials around the AMOLED display panel”;

(3) Pursuant to Commission Rule 210.50(b)(l), 19 CFR 210.50(b)(1), the presiding administrative law judge shall take evidence or other information and hear arguments from the parties or other interested persons with respect to the public interest in this investigation, as appropriate, and provide the Commission with findings of fact and a recommended determination on this issue, which shall be limited to the statutory public interest factors set forth in 19 U.S.C. l337(d)(l), (f)(1), (g)(1);

(4) For the purpose of the investigation so instituted, the following are hereby named as parties upon which this notice of investigation shall be served:

(a) The complainant is:

Samsung Display Co., Ltd., #1, Samsung-ro, Giheung-gu, Yongin-si, Gyeonggi-do, 17113, Republic of Korea

(b) The respondents are the following entities alleged to be in violation of section 337, and are the parties upon which the complaint is to be served:

Apt-Ability LLC d/b/a MobileSentrix, 4315-D Walney Road, Chantilly, VA 20151

Mobile Defenders, LLC, 6155 East Paris SE, Suite 130, Caledonia, MI 49316

Injured Gadgets, LLC, 6141 Crooked Creek Road, Norcross, GA 30092

Group Vertical, LLC, 678 Front Ave. NW, Suite 135, Grand Rapids, MI 49504

Electronics Universe, Inc., d/b/a Fixez.com, 6000 S Eastern Ave., Suite 6A, Las Vegas, NV 89119

Electronics Universe, Inc., d/b/a Repairs Universe, Inc., 6000 S Eastern Ave., Suite 6A, Las Vegas, NV 89119

LCTech International Inc., d/b/a SEGMobile.com, 20615 Valley Boulevard, City of Industry, CA 91789

Sourcely Plus, LLC, 549 S 48th Street, Suite 107, Tempe, AZ 85281

eTech Parts Plus LLC, 2380 Dean Way #160, Southlake, TX 76092

Parts4Cells Inc., 5750 Bintliff Drive, Suite 220, Houston, TX 77036

Wholesale Gadget Parts, Inc., 12820 S Memorial Drive, Suite 112, Bixby, OK 74008

Captain Mobile Parts, Inc., 11293 N Stemmons Freeway, Dallas, TX 75229

DFW Imports LLC, d/b/a DFW Cellphone and Parts, 11500 Harry Hines Boulevard, Suite 112, Dallas, TX 75229-8135

Phone LCD Parts LLC, 32 Riverview Dr., Wayne, NJ 07470

Parts4LCD, 32 Riverview Dr., Wayne, NJ 07470

Mengtor Inc., 3612 Arden Dr, #E, El Monte, CA 91731

Gadgetfix Corp., 15041 Bake Parkway, Unit C, Irvine, CA 92618

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 27, 2023.
Katherine Hiner,
Acting Secretary to the Commission.

[FR Doc. 2023-02246 Filed 2-2-23; 8:45 am]

BILLING CODE 7020-02-P